CIVIL RIGHTS COMMISSION

Sunshine Act Meeting

AGENCY: United States Commission on Civil Rights.

ACTION: Notice of accepting written and oral public comments on family separation.

DATES: Friday, December 10, 2019 through Monday, February 25, 2019 (written comments); Friday, January 25, 2019, 1:30 p.m. ET (in-person comments).

ADDRESSES: Place: National Place Building, 1331 Pennsylvania Ave. NW, 11th Floor, Suite 1150, Washington, DC 20245 (Entrance on F Street NW).

FOR FURTHER INFORMATION CONTACT: Brian Walch, (202) 376-8371; TTY: (202) 376-8116; publicaffairs@usccr.gov.

SUPPLEMENTARY INFORMATION: In 2015, the Commission issued a report, “With Liberty and Justice for All: The State of Civil Rights at Immigration Detention Facilities.” In that report, the Commission specifically addressed the status of detained undocumented immigration children and found substantial questions regarding the compliance of both the Office of Refugee Resettlement of the Department of Health & Human Services (HHS) and the Department of Homeland Security (DHS) with the quality care standards and the terms of the Flores Settlement Agreement for unaccompanied minor children. Further, the Commission examined policies and standards surrounding the detention of families at residential centers operated by DHS.

In 2018, as part of implementing its “zero tolerance” program for border crossings, the federal government began forcibly separating undocumented immigrant children from their parents. After reversing this policy, the federal government stated it would seek legal authority to allow indefinite detention of children and their families. In July 2018, the Commission voted to reopen its investigation on the conditions of immigration detention, and appointed a Subcommittee to examine the issue further. The Commission's Subcommittee has sought information from DHS and HHS, in the form of interrogatories and document requests. The Commission's requests to DHS and HHS are available on our website.

To supplement the solicited information, the Commission's Subcommittee will hold an in-person public comment session on the condition of immigration detention centers and status of treatment of immigrants, including children. This in-person public comment session will take place from 1:30-4:00 p.m. on Friday, January 25, 2019. The Commission Subcommittee seeks to hear from members of the public, including policy advocates, legal experts, affected persons, and other individuals who wish to speak on the issue.

Members of the public will have up to approximately five (5) minutes to address the Commission, with spots allotted on a first-come, first-serve basis. There will be a limited time for the Commissioners to engage in direct dialogue with the members of the public. Individuals will be able to register for speaking slots, both online and at the public comment session (in person).

The Commission will provide interpretation services in Spanish. Individuals are also welcome to bring their own interpreters (for Spanish or other languages). Additional time may be allotted to individuals requiring interpretation services, as necessary.

Online Registration

On Friday, January 18, 2019, beginning at 9:00 a.m. ET, individuals will be able to register to speak online at Eventbrite. This registration option will remain open until all slots are filled, and no later than 9:00 a.m. ET on Friday January, 25, 2019. An individual who successfully registers online must be physically present for the public comment session no later than 1:00 p.m. ET on Friday, January 25, 2019, or risk forfeiting the individual's speaking slot.

In Person Registration, Friday, January 25

Individuals will have the opportunity to sign up for a limited number of speaking slots, in person, the day of the public comment session, beginning at 1:00 p.m. on Friday, January 25, 2019. If the online registration spots are not filled, or individuals who signed up online do not appear to claim their spot, these spots will open up to any further interested participants.

Written Comments

The Commission also welcomes written submission of material for consideration. Please submit such information to immigration@usccr.gov no later than February 25, 2019.

Further detailed information on registration, including the online registration link for the in-person public comment session, will be announced on the Commission's website (www.usccr.gov), Twitter (www.twitter.com/USCCRgov), and Facebook (www.facebook.com/USCCRgov/).

The public comment period is open to the public. The event will also live-stream at https://www.youtube.com/user/USCCR/videos. (Please note that streaming information is subject to change.) If attending in person, we ask that you RSVP to publicaffairs@usccr.gov. Persons with disabilities who need accommodation should contact Pamela Dunston at 202-376-8105 or at access@usccr.gov at least seven (7) business days before the date of the meeting.

Dated: December 19, 2018.
Brian Walch,
Director, Communications and Public Engagement.

[FR Doc. 2018-27892 Filed 12-19-18; 4:15 pm]

BILLING CODE 6335-01-P